DEPARTMENT OF JUSTICE

Immigration and Naturalization Service

[INS No. 2159-01]

Detained Aliens Requesting Release Under Zadvydas v. Davis

AGENCY: Immigration and Naturalization Service, Justice.

ACTION: Notice.

SUMMARY: This notice promulgates the address of the office of the Immigration and Naturalization Service (Service) to which a detained alien must submit, in writing, a request for release on the ground that there is no significant likelihood that the Service will be able to remove the alien in the reasonably foreseeable future, in accordance with the judgment of the Supreme Court in Zadvydas v. Davis, 533 U.S. _, 121 S.Ct. 2491 (2001).

EFFECTIVE DATE: This notice is effective August 24, 2001.

FOR FURTHER INFORMATION CONTACT: David J. Venturella, Headquarters, Office of Detention and Removals, Immigration and Naturalization Service, 801 I Street NW., Suite 900, Washington, DC 20536, telephone (202) 514-1970.

SUPPLEMENTARY INFORMATION: On July 24, 2001, at 66 FR 38433, the Department of Justice published in the Federal Register the text of a memorandum issued by the Attorney General in response to the Supreme Court's judgment in Zadvydas v. Davis, 533 U.S. _, 121 S.Ct. 2491 (2001). The Memorandum directed the former Acting Commissioner of the Service, among other things, to begin accepting written requests for release for detained aliens subject to removal orders who contend that there is no significant likelihood that the Service will be able to remove them in the reasonably foreseeable future. These interim procedures apply to aliens who are subject to final orders of removal, except that the procedures do not apply to detained arriving aliens, including arriving aliens who have been paroled into the United States under section 212(d)(5)(A) of the Immigration and Nationality Act.

Any detained alien who believes that he or she may be eligible for release under the Zadvydas decision, should submit a written request for release, along with supporting documentation, to: U.S. Department of Justice, Immigration and Naturalization Service, Headquarters, Post-Order Detention Unit, 801 I Street NW., Suite 900, Washington DC 20536.

Dated: August 13, 2001.
James W. Ziglar,
Commissioner, Immigration and Naturalization Service.

[FR Doc. 01-21401 Filed 8-23-01; 8:45 am]

BILLING CODE 4410-10-M